FEDERAL ACCOUNTING STANDARDS ADVISORY BOARD

Issuance of Exposure Drafts on Implementation Guidance on the Accounting for the Disposal of G-PP&E and Implementation Guidance for Estimating the Historical Cost of G-PP&E

AGENCY: Federal Accounting Standards Advisory Board.

ACTION: Notice.

Board Action: Pursuant to 31 U.S.C. 3511(d), the Federal Advisory Committee Act (Pub. L. 92-463), as amended, and the FASAB Rules of Procedure, as amended in October, 2010, notice is hereby given that the Accounting and Auditing Policy Committee (AAPC) has issued two new Federal Financial Accounting Technical Release exposure drafts entitled Implementation Guidance on the Accounting for the Disposal of G-PP&E and Implementation Guidance for Estimating the Historical Cost of G-PP&E.

The Exposure Drafts are available on the FASAB home page http://www.fasab.gov/exposure.html. Copies can be obtained by contacting FASAB at (202) 512-7350.

Respondents are encouraged to comment on any part of the exposure draft. Written comments are requested by February 11, 2011, and should be sent to: Wendy M. Payne, Executive Director, Federal Accounting Standards Advisory Board, 441 G Street, NW., Suite 6814, Mail Stop 6K17V, Washington, DC 20548.

FOR FURTHER INFORMATION CONTACT: Wendy Payne, Executive Director, at (202) 512-7350.

Authority: Federal Advisory Committee Act, Public Law 92-463.

Dated: December 10, 2010.
Charles Jackson,
Federal Register Liaison Officer.

[FR Doc. 2010-31538 Filed 12-15-10; 8:45 am]

BILLING CODE 1610-02-P